DEPARTMENT OF ENERGY

Federal Energy Regulatory Commission

Combined Notice of Filings # 1

June 04, 2009.

Take notice that the Commission received the following electric rate filings:

Docket Numbers: ER99-2341-014; ER07-277-006; ER06-1334-008.

Applicants: Invenergy Cannon Falls LLC, Spindle Hill Energy LLC, Hardee Power Partners Limited.

Description: Notification of Change in Facts Under Market-Based Rate Authority of Hardee Power Partners Limited, Spindle Hill Energy LLC and Invenergy Cannon Falls LLC.

Filed Date: 06/03/2009.

Accession Number: 20090603-5100.

Comment Date: 5 p.m. Eastern Time on Wednesday, June 24, 2009.

Docket Numbers: ER04-374-012; ER05-717-011; ER05-721-011; ER06-230-008; ER07-810-006; ER08-1172-005; ER08-237-005; ER09-429-002; ER09-430-002.

Applicants: Forward Energy LLC, Sheldon Energy LLC, Spring Canyon Energy LLC, Grays Harbor Energy LLC, Grand Ridge Energy LLC, Willow Creek Energy LLC, Judith Gap Energy LLC, Invenergy TN LLC, Wolverine Creek Energy LLC.

Description: Notification of Change in Facts Under Market-Based Rate Authority of Spring Canyon Energy LLC, et al.

Filed Date: 06/03/2009.

Accession Number: 20090603-5110.

Comment Date: 5 p.m. Eastern Time on Wednesday, June 24, 2009.

Docket Numbers: ER06-857-002.

Applicants: Energy Resource Management Corporation.

Description: Energy Resource Management Corporation submits for acceptance First Revised Sheet 1 et al to its FERC Electric Tariff, Original Volume 1.

Filed Date: 06/01/2009.

Accession Number: 20090604-0288.

Comment Date: 5 p.m. Eastern Time on Monday, June 22, 2009.

Docket Numbers: ER07-1174-005; OA07-74-005.

Applicants: MATL LLP.

Description: MATL LLP submits instant filing pursuant to the directive in March 3 Order requiring MATL to submit a further compliance filing w/in 90 days of the issuance of that Order.

Filed Date: 06/01/2009.

Accession Number: 20090603-0153.

Comment Date: 5 p.m. Eastern Time on Monday, June 22, 2009.

Docket Numbers: ER08-1106-003.

Applicants: MATL LLP.

Description: MATL LLP submits settlement agreement.

Filed Date: 06/03/2009.

Accession Number: 20090604-0491.

Comment Date: 5 p.m. Eastern Time on Monday, June 15, 2009.

Reply Comment Date: 5 p.m. Eastern Time on Thursday, June 18, 2009.

Docket Numbers: ER09-749-001.

Applicants: Arizona Public Service Company.

Description: Arizona Public Service Company submits First Revised Sheet 232 to its FERC Electric Tariff, Fourteenth Revised Volume 2.

Filed Date: 06/02/2009.

Accession Number: 20090604-0287.

Comment Date: 5 p.m. Eastern Time on Tuesday, June 23, 2009.

Docket Numbers: ER09-1164-000.

Applicants: Arizona Public Service Company.

Description: Arizona Public Service Company submits informational filing of its Annual Update of transmission service rates pursuant to the APS Open Access Transmission Tariff.

Filed Date: 05/15/2009.

Accession Number: 20090518-0317.

Comment Date: 5 p.m. Eastern Time on Tuesday, June 09, 2009.

Docket Numbers: ER09-1180-001.

Applicants: Entergy Services Inc.

Description: Request for Deferred Effective Date.

Filed Date: 05/28/2009.

Accession Number: 20090528-5060.

Comment Date: 5 p.m. Eastern Time on Thursday, June 18, 2009.

Docket Numbers: ER09-1261-000.

Applicants: The Connecticut Light and Power Company.

Description: Northeast Utilities Service Company submits filing to cancel CL&P's FERC Electric Rate Schedule No 580 et al.

Filed Date: 06/01/2009.

Accession Number: 20090603-0154.

Comment Date: 5 p.m. Eastern Time on Monday, June 22, 2009.

Docket Numbers: ER09-1262-000.

Applicants: Northeast Utilities Service Company.

Description: Northeast Utilities Service Company submits amendment to the Transmission and Ancillary Services Wholesale Revenue Allocation Agreement between CL&P, et al.

Filed Date: 06/01/2009.

Accession Number: 20090603-0155.

Comment Date: 5 p.m. Eastern Time on Monday, June 22, 2009.

Docket Numbers: ER09-1263-000.

Applicants: Virginia Electric and Power Company.

Description: Virginia Electric and Power Company submits revised rate schedule cover sheet to cancel an Interconnection Agreement between Dominion and PJM Group.

Filed Date: 06/03/2009.

Accession Number: 20090604-0118.

Comment Date: 5 p.m. Eastern Time on Wednesday, June 24, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, D.C. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-13695 Filed 6-10-09; 8:45 am]

BILLING CODE 6717-01-P